DEPARTMENT OF JUSTICE

28 CFR Parts 67 and 83

[Docket No. OJP (OJP)-1306; AG Order No. 2759-2005]

RIN 1121-AA57

Government-Wide Debarment and Suspension (Nonprocurement) and Government-Wide Requirements for Drug-Free Workplace Grants

AGENCY: Department of Justice.

ACTION: Final rule.

SUMMARY: The Department of Justice is finalizing without change the interim final rule with request for comments published at 68 FR 66534, on November 26, 2003. The interim final rule implemented changes to the government-wide nonprocurement debarment and suspension common rule (NCR) and the associated rule on drug-free workplace requirements. The NCR sets forth the common policies and procedures that Federal Executive branch agencies must use in taking suspension or debarment actions. It also establishes procedures for participants and Federal agencies in entering covered transactions.

DATES: This final rule is effective April 11, 2005.

FOR FURTHER INFORMATION CONTACT: Linda Fallowfield, Attorney Advisor, Office of the General Counsel, Office of Justice Programs, Department of Justice, 810 7th Street, NW., Washington, DC 20531. Telephone: (202) 305-2534. (This is not a toll-free number.) E-mail: Linda.Fallowfield@usdoj.gov.

SUPPLEMENTARY INFORMATION: On November 26, 2003, at 68 FR 65534, a number of Federal agencies jointly published a final government-wide nonprocurement debarment and suspension common rule (NCR). At that time, because the Department of Justice (the Department) had not previously proposed changes to the NCR along with the other participating agencies, the Department adopted the NCR on an interim final basis. This interim final rule also separated the Department's drug-free workplace requirements from the uniform requirements on debarment and suspension. The Department did not receive any comments and is now finalizing without change the common rule it adopted on November 26, 2003.

The NCR promotes consistency within the Federal Government and provides uniform requirements for debarment and suspension by Executive branch agencies to protect assistance, loans, benefits, and other nonprocurement activities from waste, fraud, abuse, and poor performance, similar to the system used for Federal procurement activities under Subpart 9.4 of the Federal Acquisition Regulations (FAR). Drug-free workplace requirements were moved from 28 CFR part 67 to 28 CFR part 83. This places the requirements nearer other requirements used predominantly by award officials.

Regulatory Certifications

Executive Order 12866

This regulation has been drafted and reviewed in accordance with Executive Order 12866, “Regulatory Planning and Review,” section 1(b), Principles of Regulation. The Department has determined that this rule is a “significant regulatory action” under Executive Order 12866, section 3(f), Regulatory Planning and Review, and accordingly this rule has been reviewed by the Office of Management and Budget.

Executive Order 13132

This regulation will not have substantial direct effects on the States, on the relationship between the national government and the States, or on distribution of power and responsibilities among the various levels of government. Therefore, in accordance with Executive Order 13132, it is determined that this rule does not have sufficient federalism implications to warrant the preparation of a Federalism Assessment.

Regulatory Flexibility Act

The Attorney General, in accordance with the Regulatory Flexibility Act (5 U.S.C. 605(b)), has reviewed this regulation, and by approving it, certifies that this regulation will not have a significant economic impact on a substantial number of small entities for the following reasons: this rule addresses Federal agency procedures for suspension and debarment, and it clarifies current requirements under the Nonprocurement Common Rule for Debarment and Suspension by reorganizing information and presenting that information in a plain language, question-and-answer format.

Unfunded Mandates Act of 1995

This rule will not result in the expenditure by State, local, and tribal governments, in the aggregate, or by the private sector, of $100,000,000 or more in any one year, and it will not significantly or uniquely affect small governments. Therefore, no actions were deemed necessary under the provisions of the Unfunded Mandates Reform Act of 1995.

Paperwork Reduction Act

This rule does not impose additional reporting or recordkeeping requirements under the Paperwork Reduction Act of 1995 (44 U.S.C. Chapter 35).

Small Business Regulatory Enforcement Fairness Act of 1996

This rule is not a major rule as defined by section 251 of the Small Business Regulatory Enforcement Fairness Act of 1996. 5 U.S.C. 804. This rule will not result in: an annual effect on the economy of $100,000,000 or more; a major increase in costs or prices; significant adverse effects on competition, employment, investment, productivity, innovation, or on the ability of United States-based companies to compete with foreign-based companies in domestic and export markets.

List of Subjects

28 CFR Part 67

Administrative practice and procedure, Government contracts, Grant programs, Loan programs, Reporting and recordkeeping requirements, Technical assistance, Drug abuse.

28 CFR Part 83

Administrative practice and procedure, Drug abuse, Grant programs, Reporting and recordkeeping requirements.

Accordingly, the interim final rule amending 28 CFR Parts 67 and 83, which was published at 68 FR 66534 on November 26, 2003, is adopted as a final rule without change.

Dated: March 7, 2005.
Alberto R. Gonzales,
Attorney General.

[FR Doc. 05-4850 Filed 3-10-05; 8:45 am]

BILLING CODE 4410-18-P